Proclamation 10499 of November 18, 2022

National Child's Day, 2022

By the President of the United States of America

A Proclamation

Every child deserves to be safe and loved—anchored by a supportive family, a welcoming community, and a Nation devoted to their education, health, safety, and well-being. On National Child's Day, we renew our commitment to making America the best place in the world to grow up.

America's youngest generation is set to become the best-educated, most accomplished, and most tolerant in our history. Across the country, children are studying hard, modeling kindness and compassion, and making their voices heard on today's biggest issues—from climate change to human rights, health care to gun violence, and racial justice to immigration. America's youth make me more optimistic than ever about this Nation's future, and I know that, by investing in their success today, we can shape a more prosperous, secure, and just world tomorrow.

That is why I signed the American Rescue Plan at the start of my Presidency, providing $130 billion to public K-12 schools to help them pay teacher salaries, fund renovations, and launch new afterschool and summer tutoring programs. During my first year in office, preschools, elementary schools, and high schools hired a record 279,000 new educators, and almost every single school that closed at the height of the pandemic is now up and running. To continue this progress and ensure that no child's future is limited by the neighborhood where they are raised, I am calling on the Congress to more than double funding for historically neglected Title I schools, which serve children from low-income families.

At the same time, our American Rescue Plan expanded health insurance to over a million children and cut child poverty by nearly 50 percent. I have taken on the youth mental health crisis by making it easier for children across America to receive support through their pediatricians' offices and helping schools hire more counselors and social workers. I secured funding through our Bipartisan Infrastructure Law to replace lead pipes across the Nation and ensure that no parent has to second-guess the quality of the water coming out of a school's drinking fountains.

As part of the White House Conference on Hunger, Nutrition, and Health that I convened this fall—the first in 50 years—we released a national strategy to end hunger and reduce diet-related diseases, starting by expanding free school meals to 9 million more kids by 2032. And during Pride Month this year, I signed an Executive Order to provide support to LGBTQI+ children and families, who deserve the same dignity and respect as all Americans. This order addresses discriminatory legislative attacks on LGBTQI+ people and youth, safeguards access to health care, prevents harmful so-called “conversion therapy,” and addresses the LGBTQI+ youth mental health crisis. I will also ensure that the United States continues to defend and fully implement the Indian Child Welfare Act of 1978, a law I was proud to support that protects Native children and families in the welfare system and involves Tribes in child welfare cases.

Additionally, to improve children's safety at home, in classrooms, and in child care settings, my Administration rolled out COVID-19 vaccines for kids 6 months and older. I also took action on gun violence, signing a historic law to keep firearms out of the hands of people who are a danger to themselves and to others—the first major bipartisan gun safety legislation in nearly 30 years. I will continue pushing the Congress to ban assault weapons and high-capacity magazines and support universal background checks, because no student in this country should fear for their life and no parent should worry about whether their child will come home safe from school.

America became a world leader because we invested in the well-being of our children and their families. We pioneered new medicines, improved nutrition, expanded educational opportunity for all children, and drastically reduced infant mortality. Today, we have another chance to shape a future our Nation can be proud of. By ensuring every child in America has a safe and supportive upbringing, we can give our kids the chance to be healthier, happier, and more successful than ever before. For the good of the country and the world, this work cannot wait.

NOW, THEREFORE, I, JOSEPH R. BIDEN JR., President of the United States of America, by virtue of the authority vested in me by the Constitution and the laws of the United States, do hereby proclaim November 20, 2022, as National Child's Day. I call upon all government officials, educators, volunteers, and all the people of the United States of America to observe this day with appropriate programs, ceremonies, and activities.

IN WITNESS WHEREOF, I have hereunto set my hand this eighteenth day of November, in the year of our Lord two thousand twenty-two, and of the Independence of the United States of America the two hundred and forty-seventh.

[FR Doc. 2022-25740

Filed 11-22-22; 8:45 am]

Billing code 3395-F3-P